DEPARTMENT OF THE INTERIOR

National Park Service

Concession Contract Negotiations

AGENCY: National Park Service.

ACTION: Public notice.

SUMMARY: Public notice is hereby given that the National Park Service proposes to award an extension of an existing concession contract to the current concessioner authorizing the continued operation of Nauset Knoll Motor Lodge facilities and services for the public at Cape Cod National Seashore, Massachusetts for a term of one year from January 1, 2001 through December 31, 2001.

EFFECTIVE DATE: December 27, 2000.

ADDRESSES: National Park Service, Concession Management Program, Boston Support Office, 15 State Street, Boston, MA 02109-3572, Telephone (617) 223-5209.

SUPPLEMENTARY INFORMATION: This contract extension is being awarded to The Benz Corporation, Orleans, Massachusetts. It is necessary to award the contract extension in order to avoid interruption of visitor services.

This action is issued pursuant to 36 CFR part 51.23. This is not a request for proposals and no prospectus is being issued. Park planning documents call for the future conversion of the Nauset Knoll Motor Lodge to Government use.

Dated: October 30, 2000.
Chrysandra L. Walter,
Acting Regional Director, Northeast Region.

[FR Doc. 00-30150 Filed 11-24-00; 8:45 am]

BILLING CODE 4310-70-M